DEPARTMENT OF VETERANS AFFAIRS

Privacy Act of 1974; System of Records

AGENCY: Department of Veterans Affairs (VA).

ACTION: Notice of amendment to system of records.

SUMMARY: As required by the Privacy Act of 1974, 5 U.S.C. 552a(e), notice is hereby given that the Department of Veterans Affairs (VA) is amending the system of records entitled “National Prosthetic Patient Database (NPPD)-VA” (33VA113) as set forth in the Federal Register, 40 FR 38095 (Aug. 26, 1975) and last amended in the Federal Register, 66 FR 20033-34 (Apr. 18, 2001). VA is amending the Routine Uses of Records Maintained in the System, including Categories of Users and the Purposes of Such Uses. VA is republishing the system notice in its entirety.

DATES: Comments on the amendment of this system of records must be received no later than February 28, 2005. If no public comment is received, the amended system will become effective February 28, 2005.

ADDRESSES: Written comments concerning the proposed amended system of records may be submitted by: Mail or hand-delivery to Director, Regulations Management (00REG1), Department of Veterans Affairs, 810 Vermont Avenue, NW., Room 1068, Washington, DC 20420; fax to (202) 273-9026; or e-mail to VAregulations@mail.va.gov. All comments received will be available for public inspection in the Office of Regulation Policy and Management, Room 1063B, between the hours of 8 a.m. and 4:30 p.m., Monday through Friday (except holidays). Please call (202) 273-9515 for an appointment.

FOR FURTHER INFORMATION CONTACT: Veterans Health Administration (VHA) Privacy Act Officer (19F2), Department of Veterans Affairs, 810 Vermont Avenue, NW., Washington, DC 20420, (727) 320-1839.

SUPPLEMENTARY INFORMATION: Information in this system of records is used to furnish administrative and clinical statistical procurement and prescription information, including total cost and summary of activity, including equipment usage, data to VA and other health care providers, both Federal and non-Federal, to aid in furthering the improvement of health care, research and education. The National Prosthetic Patient Database (NPPD) will generate data to provide ad-hoc reporting for clinical and management departments; provide insight into stations' purchasing practices and utilization of contracts; improve budget management; conduct reviews of prescribing practices/best practices; help to develop consistency in the way that service is provided; and help to establish consistent policies and procedures.

VA is amending the following routine use disclosures of information to be maintained in the system:

• Routine use number one (1) is being amended in its entirety. VA must be able to disclose information within its possession on its own initiative that pertains to a violation of law to the appropriate authorities in order for them to investigate and enforce those laws. VA may disclose the names and home addresses of veterans and their dependents only to Federal entities with law enforcement responsibilities under 38 U.S.C. 5701(a) and (f). Accordingly, VA has so limited this routine use as follows:

VA may disclose information on its own initiative any information in this system, except the names and home addresses of veterans and their dependents, which is relevant to a suspected or reasonably imminent violation of law, whether civil, criminal or regulatory in nature and whether arising by general or program statute or by regulation, rule or order issued pursuant thereto, to a Federal, state, local, tribal or foreign agency charged with the responsibility of investigating or prosecuting such violations, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

The Privacy Act permits VA to disclose information about individuals without their consent for a routine use when the information will be used for a purpose that is compatible with the purpose for which we collected the information. In the routine use disclosure described above, the recipient of the information will use the information in connection with a matter relating to one of VA's programs or to provide a benefit to VA, or, alternatively, disclosure is required by law or would permit VA to notify appropriate entities about conduct of individuals in this system of records.

Under section 264, Subtitle F of Title II of the Health Insurance Portability and Accountability Act of 1996 (HIPAA), Pub. L. 104-191, 100 Stat. 1936, 2033-34 (1996), the United States Department of Health and Human Services (HHS) published a final rule, as amended, establishing Standards for Privacy of Individually-Identifiable Health Information, 45 CFR Parts 160 and 164. VHA may not disclose individually-identifiable health information (as defined in HIPAA, 42 U.S.C. 1320(d)(6), and corresponding Privacy Rule, 45 CFR 164.501) pursuant to a routine use unless either: (a) The disclosure is required by law, or (b) the disclosure is also permitted or required by the HHS Privacy Rule. The disclosures of individually-identifiable health information contemplated in the routine uses published in this amended system of records notice are permitted under the Privacy Rule. However, to also have authority to make such disclosures under the Privacy Act, VA must publish these routine uses. Consequently, VA is publishing these routine uses and is adding a preliminary paragraph to the routine uses portion of the system of records notice stating that any disclosure pursuant to the routine uses in this system of records notice must be either required by law or permitted by the Privacy Rule before VHA may disclose the covered information.

The Report of Intent to Publish an Amended System of Records Notice and an advance copy of the system notice have been sent to the appropriate Congressional committees and to the Director of the Office of Management and Budget (OMB) as required by 5 U.S.C. 552a(r) (Privacy Act) and guidelines issued by OMB, 61 FR 6428, (Feb. 20, 1996).

Approved: January 7, 2005.
Anthony J. Principi,
Secretary of Veterans Affairs.

33VA113

SYSTEM NAME:

National Prosthetic Patient Database (NPPD)-VA.

SYSTEM LOCATION:

Records are maintained in Department of Veterans Affairs (VA) medical center databases. Extracts are maintained at the Austin Automation Center (AAC), Austin, Texas, and Hines Information Service Center, Hines, Illinois. VA health care facility address locations are listed in VA Appendix I of the Biennial Privacy Act Issuances publication.

CATEGORIES OF INDIVIDUALS COVERED BY THE SYSTEM:

Contracted fabricators of prosthetic and orthotic appliances; vendors and manufacturers of durable medical equipment and sensory-neural aids; medical supply companies; VA beneficiaries; and VA employees.

CATEGORIES OF RECORDS IN THE SYSTEM:

VA field facility ordering the orthotic device; Patient Identification Number; Health Care Financing Administration Common Procedure Coding System (HCPCS); item purchased/issued to patient; cost; quantity; type of issue (initial/replace/repair/spare); patient eligibility category (service-connected, prisoner of war, aid and attendance); responsible VA procurement officer or representative; order creation date; order close/delivery date; calculated processing days; transaction/purchase order number; type of form used to purchase item (VAF 2421, PC2421, VAF 2529, VAF 2914, etc.); and vendor/contractor name. All other patient information, i.e., name, address, telephone number, can be retrieved by prosthetic program officials in VA Central Office by using the unique Patient Identification Number assigned to the patient in NPPD.

AUTHORITY FOR MAINTENANCE OF THE SYSTEM:

Title 38, United States Code, Section 527.

PURPOSE(S):

The records or information in this system will be used to furnish administrative and clinical statistical procurement and prescription information, including total cost and summary of activity, including equipment usage, data to VA and other health care providers, both Federal and non-Federal, to aid in furthering the improvement of health care, research and education.

ROUTINE USES OF RECORDS MAINTAINED IN THE SYSTEM, INCLUDING CATEGORIES OF USERS AND THE PURPOSES OF SUCH USES:

VA may disclose protected health information pursuant to the following routine uses where required by law, or required or permitted by 45 CFR Parts 160 and 164.

1. VA may disclose on its own initiative any information in this system, except the names and home addresses of veterans and their dependents, which is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. On its own initiative, VA may also disclose the names and addresses of veterans and their dependents to a Federal agency charged with the responsibility of investigating or prosecuting civil, criminal or regulatory violations of law, or charged with enforcing or implementing the statute, regulation, rule or order issued pursuant thereto.

2. To furnish administrative and clinical statistical procurement and prescription information, including total cost and summary of activity, including equipment usage, data to VA and other health care providers, both Federal and non-Federal, to aid in furthering the improvement of health care, research and education.

3. To provide statistical and other information in response to legitimate and reasonable requests as approved by appropriate VA authorities.

4. Disclosure may be made to a Congressional office from the record of an individual in response to an inquiry from the Congressional office made at the request of that individual.

5. Disclosure may be made to National Archives and Records Administration (NARA) and General Services Administration (GSA) in records management inspections conducted under authority of Title 44 United States Code.

POLICIES AND PRACTICES FOR STORING, RETRIEVING, ACCESSING, RETAINING, AND DISPOSING OF RECORDS IN THE SYSTEM:

STORAGE:

Compact and magnetic disk.

RETRIEVABILITY:

Indexed by Patient Identification Number for VA prosthetic personnel.

SAFEGUARDS:

1. Access to VA working and storage areas is restricted to VA employees on a “need to know” basis. Generally, VA file areas are locked after normal duty hours and are protected from outside access by the Federal Protective Service. Strict control measures are enforced to ensure that disclosure is limited to a “need to know” basis. Physical access to the AAC is generally restricted to AAC staff, Central Office employees, custodial personnel, Federal Protective Service and authorized operational personnel through electronic locking devices. All other persons gaining access to the computer rooms are escorted.

2. Access to computer rooms at health care facilities is generally limited by appropriate locking devices and restricted to authorized VA employees and vendor personnel. Automated data processing peripheral devices are placed in secure areas (areas that are locked or have limited access) or are otherwise protected. Information in the Veterans Health Information System and Technology Architecture (VistA) may be accessed by authorized VA employees. Access to file information is controlled at two levels; the systems recognize authorized employees by a series of individually-unique passwords/codes as a part of each data message, and the employees are limited to only that information in the file which is needed in the performance of their official duties. Access to information stored on automated storage media at other VA locations is controlled by individually-unique passwords/codes.

RETENTION AND DISPOSAL:

Regardless of the record medium, records will be maintained and disposed of in accordance with the record disposition authority approved by the Archivist of the United States under National Archives Job No. N1-15-01-4.

SYSTEM MANAGER(S) AND ADDRESS:

Chief Consultant, Prosthetic and Sensory Aids Service Strategic Healthcare Group (113), Department of Veterans Affairs, 810 Vermont Avenue, NW., Washington, DC 20420.

NOTIFICATION PROCEDURE:

Individuals seeking information concerning the existence and content of a record pertaining to themselves must submit a written request or apply in person to the VA health care facility where they received the orthotic/prosthetic device/appliance/equipment. All inquiries must reasonably identify the records involved and the approximate date that medical care was provided. Inquiries should include the individual's full name, and identifying characteristics.

RECORD ACCESS PROCEDURES:

Individuals seeking information regarding access to and contesting of a VA prosthetic-related record may write, call, or visit the VA facility where medical care was provided.

CONTESTING RECORD PROCEDURES:

(See Record Access Procedures above.)

RECORD SOURCE CATEGORIES:

VistA-VA (79VA19), Patient Medical Records-VA (24VA19), and veterans' records.

[FR Doc. 05-1541 Filed 1-26-05; 8:45 am]

BILLING CODE 8320-01-P